FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 20, 2011.

A. Federal Reserve Bank of Philadelphia (William Lang, Senior Vice President) 100 North 6th Street, Philadelphia, Pennsylvania 19105-1521:

1. Patriot Financial Partners, GP, L.P.; Patriot Financial Partners, L.P.; Patriot Financial Partners Parallel, L.P.; Patriot Financial Partners, GP, LLC; Patriot Financial Managers, L.P.; Patriot Financial Managers LLC; and Ira M. Lubert; W. Kirk Wycoff, and James J. Lynch, all of Philadelphia, Pennsylvania; to acquire voting shares of Heritage Oakes Bancorp, and thereby indirectly acquire voting shares of Heritage Bank, both in Paso Robles, California.

B. Federal Reserve Bank of Kansas City (Dennis Denney, Assistant Vice President) 1 Memorial Drive, Kansas City, Missouri 64198-0001:

1. Gregory J. Weed, Cheyenne Wells, Colorado; to acquire voting shares of Weed Investment Group, Inc., and thereby indirectly acquire voting shares of The Eastern Colorado Bank, both in Cheyenne Wells, Colorado.

Board of Governors of the Federal Reserve System, August 31, 2011.
Robert deV. Frierson,
Deputy Secretary of the Board.

[FR Doc. 2011-22641 Filed 9-2-11; 8:45 am]

BILLING CODE 6210-01-P